NUCLEAR REGULATORY COMMISSION

[Docket Nos. 50-272 and 50-311]

PSEG Nuclear LLC; Notice of Issuance of Amendment to Facility Operating License

The U.S. Nuclear Regulatory Commission (Commission) has issued Amendment Nos. 243 and 224 to Facility Operating License Nos. (FOLs) DPR-70 and DPR-75 issued to PSEG Nuclear LLC, which revised the FOLs and Technical Specifications for operation of the Salem Nuclear Generating Station, Unit Nos. 1 and 2, located at the licensee's site on the southern end of Artificial Island in Lower Alloways Creek Township, Salem County, New Jersey. Salem, New Jersey, is located approximately 7.5 miles northeast of the site. The amendment is effective as of the date of issuance.

The amendment modified the FOLs and Technical Specifications to increase the licensed power level by approximately 1.4% from 3,411 megawatts thermal (MWt) to 3,459 MWt. The changes are anticipated to increase each unit's net electrical output by 16 MWe. The request is based on the installation of the CE Nuclear Power LLC Crossflow ultrasonic flow measurement system with its ability to achieve increased accuracy in measuring steam generator feedwater flow. The amendment also included administrative changes to the Salem Unit No. 1 FOL and the Salem TS Bases.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License and Opportunity for a Hearing in connection with this action was published in the Federal Register on January 30, 2001 (66 FR 8242). No request for a hearing or petition for leave to intervene was filed following this notice.

The Commission has prepared an Environmental Assessment related to the action and has determined not to prepare an environmental impact statement. Based upon the environmental assessment, the Commission has concluded that the issuance of the amendment will not have a significant effect on the quality of the human environment (66 FR 26885).

For further details with respect to the action see (1) the application for amendment dated November 10, 2001, as supplemented by letters dated December 5, 2000, March 28 and April 2, 2001, and three letters dated April 20, 2001, (LNR-01-0099, LRN-01-0115, and LRN-01-0123); (2) Amendment Nos. 243 and 224 to License Nos. DPR-70 and DPR-75; (3) the Commission's related Safety Evaluation; and (4) the Commission's Environmental Assessment. Documents may be examined, and/or copied for a fee, at the NRC's Public Document Room, located at One White Flint North, 11555 Rockville Pike (first floor), Rockville, Maryland, and accessible electronically through the ADAMS Public Electronic Reading Room link at the NRC Web site (http://www.nrc.gov).

Dated at Rockville, Maryland, this 25th day of May 2001.
For the Nuclear Regulatory Commission.
Robert J. Fretz,
Project Manager, Section 2, Project Directorate I, Division of Licensing Project Management, Office of Nuclear Reactor Regulation.

[FR Doc. 01-14357 Filed 6-6-01; 8:45 am]

BILLING CODE 7590-01-M